DEPARTMENT OF ENERGY

Federal Energy Regulatory Commission

[Docket No. RP00-558-000]

Overthrust Pipeline Company; Notice of Tariff Filing

September 26, 2000.

Take notice that on September 22, 2000, Overthrust Pipeline Company (Overthrust) tendered for filing to become part of its FERC Gas Tariff, First Revised Volume No. 1, the following tariff sheets to be effective October 23, 2000.

First Revised Volume No. 1-A

Third Revised Sheet No. 2

Fourth Revised Sheet No. 76

By this filing, Overthrust proposes to modify its tariff for clarification purposes as described below.

On March 24, 2000, Questar Pipeline Company bought Enron Overthrust Pipeline Company's interest in the Overthrust partnership resulting in Enron's removal from the general partnership, effective January 1, 2000. This filing reflects that removal.

In addition, Overthrust is proposing to clarify and simplify its language on affiliate relationships in order to reflect compliance with Section 161.3(h)(2) of the Commission's Regulations as they have been revised by Order No. 637 to require pipeline companies to post on its Internet Web Site, operating personnel and facilities shared by the company and any marketing affiliate, and update the information within three business days of any change.

Overthrust states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25120 Filed 9-29-00; 8:45 am]

BILLING CODE 6717-01-M